DEPARTMENT OF HOMELAND SECURITY

Coast Guard

[Docket No. USCG-2017-0340]

Certificate of Alternative Compliance for U.S. Coast Guard National Security Cutters

AGENCY: Coast Guard, DHS.

ACTION: Notice.

SUMMARY: The Coast Guard announces that a Certificate of Alternate Compliance was issued for the U.S. Coast Guard's National Security Cutters (WMSL Class). We are issuing this notice because its publication is required by statute. Due to their unique purpose, these vessels cannot fully comply with the masthead light provisions of the International Regulations for Preventing Collisions at Sea, 1972 (72 COLREGS) without interfering with their special function.

FOR FURTHER INFORMATION CONTACT: For information about this notice, please call or email LCDR Matthew Walter, Commandant (CG-NAV-2), U.S. Coast Guard, 2703 Martin Luther King Jr. Avenue SE., Stop 7418, Washington, DC 20593, telephone 202-372-1565 or email cgnav@uscg.mil.

SUPPLEMENTARY INFORMATION:

Background and Purpose

The United States is signatory to the International Maritime Organization's International Regulations for Preventing Collisions at Sea, 1972 (72 COLREGS), as amended. The special construction or purpose of some vessels makes them unable to comply with the light, shape, and sound signal provisions of the 72 COLREGS. Pursuant to 33 U.S.C. 1605(a), Navy and Coast Guard vessels of special construction or purpose may be issued a Certificate of Alternative Compliance (COAC) authorizing alternative requirements to the 72 COLREGS. For Coast Guard vessels, the Commandant of the U.S. Coast Guard determines whether the vessel for which the COAC is sought complies as closely as possible with 72 COLREGS, and decides whether to issue the COAC. By law, notice of COACs must be published in the Federal Register.

Pursuant to 33 U.S.C. 1605(d), a COAC may be issued for a class of vessels. The Commandant, U.S. Coast Guard, hereby finds and certifies that the U.S. Coast Guard's class of WMSL-750 vessels (also known as National Security Cutters) are a class of vessels of special construction or purpose, and that with respect to the horizontal position of the Forward and Aft Masthead navigational lights, it is not possible to comply fully with the requirements of the provisions enumerated in the 72 COLREGS Annex I, section 3(a), without interfering with the special function of these vessels. The Commandant, U.S. Coast Guard, further finds and certifies that the masthead lights of the National Security Cutters are in the closet possible compliance with the applicable provisions of the 72 COLREGS and that full compliance with the 72 COLREGS would not significantly enhance the safety of the vessels' operation.

This notice is issued in accordance with 33 U.S.C. 1605(c).

Dated: April 21, 2017.
Michael D. Emerson,
Director of Marine Transportation Systems Management, U.S. Coast Guard.

[FR Doc. 2017-08528 Filed 4-26-17; 8:45 am]

BILLING CODE 9110-04-P